EXPORT-IMPORT BANK

Economic Impact Policy

This notice is to inform the public that the Export-Import Bank of the United States has received an application to finance the export of approximately $500 million in U.S. semiconductor manufacturing equipment to dedicated foundries in China. The U.S. exports will enable the dedicated foundries to produce 60,000 300-mm wafers per month across advanced process technology nodes. Available information indicates that some of this new production will be exported from China and consumed globally. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. 04-17870 Filed 8-4-04; 8:45 am]

BILLING CODE 6690-01-P